DEPARTMENT OF THE INTERIOR

Bureau of Reclamation

[RR84550000, 189R5065C6, RX.59389832.1009676]

Availability of Rural Water Supply Program Approved Appraisal Reports

AGENCY: Bureau of Reclamation, Interior.

ACTION: Notice of availability.

SUMMARY: Reclamation has made available to the public seven Rural Water Supply Program approved appraisal reports.

ADDRESSES: The approved appraisal reports may be downloaded from Reclamation's website at http://www.usbr.gov/ruralwater. See SUPPLEMENTARY INFORMATION section for locations on where to obtain copies of the appraisal reports.

FOR FURTHER INFORMATION CONTACT: Mr. Max Millstein by telephone at (303) 445-2853, or by email at mmillstein@usbr.gov.

SUPPLEMENTARY INFORMATION: The Reclamation Rural Water Supply Act of December 22, 2006 (Pub. L. 109-451, Title I, 120 Stat. 3346, 43 U.S.C. 2401, et seq.) authorized Reclamation to establish a program to work with rural communities, including Indian tribes, in the 17 Western States to assess rural water supply needs and identify options to address those needs through appraisal investigations and feasibility studies.

Applicants submitted initial appraisal investigations for review of technical adequacy and completeness. Once reviewed, Reclamation prepared appraisal reports to document the findings and conclusions of the appraisal investigations that identified the water supply problems, needs, and opportunities in the planning study areas. Based on meeting the appraisal and eligibility criteria, as specified in Public Law 109-451, Reclamation determined the following seven appraisal investigations were complete; copies of the appraisal reports are available at http://www.usbr.gov/ruralwater, and hard copies are available for public review at the following locations:

• Lower Clearwater Exchange Project Appraisal Report, Bureau of Reclamation, Snake River Area Office, 230 West Collins Road, Boise, ID 83702; (208) 383-2246.

• Jemez Water Supply Appraisal Report, Bureau of Reclamation, Albuquerque Area Office, 555 Broadway NE, Suite 100, Albuquerque, NM 87102-2352; (505) 462-3540.

• Nye County Water District Water Supply Appraisal Report, Bureau of Reclamation, Phoenix Area Office, 6150 West Thunderbird Road, Glendale, AZ 85306-4001; (623) 773-6200.

• Platte Alliance Water System Rural Water Supply Project Appraisal Report, Bureau of Reclamation, Wyoming Area Office, 705 Pendell Boulevard, Mills, WY 82644; (307) 261-5671.

• San Juan—Mexican Hat to Kayenta Rural Water Supply Program Appraisal Report, Bureau of Reclamation, Provo Area Office, 302 East 1860 South, Provo, UT 84606-7317; (801) 379-1101.

• Southwestern Navajo Rural Water Supply Program Appraisal Report, Bureau of Reclamation, Phoenix Area Office, 6150 West Thunderbird Road, Glendale, AZ 85306-4001; (623) 773-6200.

• Sulphur Pipeline Regional Rural Water Supply Project Appraisal Report, Bureau of Reclamation, Great Plains Regional Office, 2021 4th Avenue North, Billings, MT 59101; (406) 247-7600.

Authority: Reclamation Rural Water Supply Act of December 22, 2006 (Pub. L. 109-451, Title I, 120 Stat. 3346, 43 U.S.C. 2401, et seq.).

Dated: March 26, 2018.
Ruth Welch,
Director, Policy and Administration.

[FR Doc. 2018-12793 Filed 6-13-18; 8:45 am]

BILLING CODE 4332-90-P